DEPARTMENT OF DEFENSE

Office of the Secretary of Defense; Renewal of 18 Department of Defense Federal Advisory Committees

AGENCY: DoD.

ACTION: Notice.

SUMMARY: Under the provisions of Pub. L. 92-463, the “Federal Advisory Committee Act,” notice is hereby given that the following 18 advisory committees have been determined to be in the public interest and were renewed on February 28, 2004:

A. Board of Visitors National Defense University

B. Strategic Advisory Group for the U.S. Strategic Command

C. Advisory Group on Electron Devices

D. Defense Science Board

E. Defense Advisory Committee on Military Personnel Testing

F. DoD Wage Committee

G. National Security Agency Advisory Board

H. Armed Forces Epidemiological Board

I. Army Science Board

J. Army Education Advisory Committee

K. Chief of Engineers Environmental Advisory Board

L. Scientific Advisory Board of the Armed Forces Institute of Pathology

M. Board of Advisors to the President, Naval War College

N. Board of Advisors to the Superintendent, Naval Postgraduate School

O. Chief of Naval Operations Executive Panel Advisory Committee

P. Naval Research Advisory Committee

Q. Air University Board of Visitors

R. U.S. Air Force Scientific Advisory Board

These committees provide necessary and valuable advice to the Secretary of Defense and other senior officials in the DoD in their respective areas of expertise. They make important contributions to DoD efforts in research and development, education, and training, and various technical program areas. Some of the are authorized by statute.

It is a continuing DoD policy to make every effort to achieve a balanced membership on all DoD advisory committees. Each committee is evaluated in terms of the functional disciplines, levels of experience, professional diversity, public and private association, and similar characteristics required to ensure a high degree of balanced is obtained.

FOR FURTHER INFORMATION CONTACT: Jennifer Spaeth, DoD Committee Management Officer, 703-588-8151.

Dated: March 10, 2004.
L.M. Bynum,
Alternate OSD Federal Register, Liaison Officer, Department of Defense.

[FR Doc. 04-5867 Filed 3-15-04; 8:45 am]

BILLING CODE 5001-06-M